DEPARTMENT OF THE INTERIOR

Bureau of Land Management

[LLAK910000.L13100000.DB0000.LXSINSSI0000]

Notice of Public Meeting, North Slope Science Initiative—Science Technical Advisory Panel; Correction

AGENCY: Bureau of Land Management, Alaska State Office, North Slope Science Initiative, Interior.

ACTION: Notice of public meeting; correction.

SUMMARY: In accordance with the Federal Land Policy and Management Act (FLPMA) and the Federal Advisory Committee Act of 1972 (FACA), the U.S. Department of the Interior, North Slope Science Initiative (NSSI)—Science Technical Advisory Panel (STAP) will meet as indicated below.

DATES: The meeting will be held June 12 and 13, 2014 in Fairbanks, Alaska. The meetings will begin at 9:00 a.m. in the Butrovich Building, Room 109 a-b, 910 Yukon Drive, University of Alaska Fairbanks. Public comment will be received between 3:00 and 4:00 p.m. on Thursday, June 12, 2014. The document contained an incorrect point of contact and agenda topics are clarified in the next section.

Correction

In the Federal Register of May 19, 2014, in FR Doc. 2014-11474, page 28770 in the third column, the correct point of contact for information is Dennis Lassuy, Designated Federal Official for the STAP. He may be contacted at dlassuy@blm.gov or via telephone at 907-271-3212.

The agenda topics to be discussed include continued dialog for prioritizing inventory, monitoring, and research using the North Slope Scenarios Project results for the North Slope and adjacent marine environments. Additionally, the STAP will continue dialog on a long-term monitoring strategy for the North Slope. The STAP will be reviewing the status of the emerging issues first released in October 2010.

Dated: May 27, 2014.
Bud C. Cribley,
State Director.

[FR Doc. 2014-12779 Filed 5-30-14; 8:45 am]

BILLING CODE 1310-JA-P